DEPARTMENT OF HEALTH AND HUMAN SERVICES

Centers for Disease Control and Prevention

[CDC-2013-0015; NIOSH 237-A]

National Institute for Occupational Safety and Health Personal Protective Technology Program and National Personal Protective Technology Laboratory Conformity Assessment Public Meeting

AGENCY: The National Institute for Occupational Safety and Health (NIOSH) of the Centers for Disease Control and Prevention (CDC), Department of Health and Human Services (HHS).

ACTION: Notice of public meeting.

SUMMARY: The National Institute for Occupational Safety and Health (NIOSH) of the Centers for Disease Control and Prevention (CDC) announces the following public meeting: “Conformity Assessment Meeting on Non-Respiratory Personal Protective Equipment (PPE).”

To view the notice and related materials, visit www.regulations.gov and enter CDC-2013-0015 in the search field and click “search.”

Stakeholder Meeting Time and Date: 8:00 a.m. to 12:00 p.m. EDT, September 17, 2013.

Place: NIOSH Pittsburgh Research Center located at 626 Cochrans Mill Road, Building 140, Pittsburgh, Pennsylvania 15236. This meeting will also be available by remote participation through “live meeting.”

Purpose of the Meeting: This meeting is being held to provide 1) a summary of the work conducted by the NIOSH Personal Protective Technology (PPT) Conformity Assessment Working Group 2) provide an overview of model Conformity Assessment programs, and 3) solicit input to define a national framework for PPE conformity assessment.

This meeting will include presentations on Product and Standards, Risk Assessment, Surveillance and Compliance and Enforcement targeting General Industry, Healthcare, Public Safety, and Mining stakeholders.

Moderated breakout sessions will discuss preferred Conformity Assessment (CA) components (as detailed in the background below); existing U.S. CA infrastructure capabilities; and gaps in legislation, standards, and infrastructure that need to be filled to define the framework. These breakout discussions will not be available through remote participation; however, the breakout reports will be available to remote participants when the groups reconvene.

Status: The meeting is open to the public, limited only by the capacity (150) of the conference room. Registration will be accepted on a first-come first-served basis. Participants are encouraged to consider remote participation through “live meeting.” Registration by September 13, 2013 is required for both attendance in person and “live meeting” participation. Registration for both options is available on the NIOSH Web site. Non-U.S. citizens, attending in person, need to register on or before August 16, 2013, to allow sufficient time for mandatory CDC facility security clearance procedures to be completed. An email confirming registration will be sent from NIOSH to all participants. Government-issued photo identification is required to obtain entrance to the NIOSH location.

An opportunity for individuals or organization representatives wishing to offer verbal comments (five minute time limit) will be provided as time permits after the breakout reports. Time slots are limited and available on a first-come first-served basis. Preregistration for providing verbal comment can be requested when registering for the meeting. Submit electronic comments through www.regulations.gov.

All information received in response to this notice and meeting must include the agency name and docket number (CDC-2013-0015; NIOSH 237-A). All relevant comments received will be posted without change to www.regulations.gov, including any personal information provided. All electronic comments should be formatted in Microsoft Word. Please make reference to CDC-2013-0015 and NIOSH Docket Number 237-A.

Background: In response to recommendations made by the National Academies of Science during a programmatic review, the NIOSH Personal Protective Technology Conformity Assessment Working Group was established in 2011. The goal of this group is to prepare a national framework establishing criteria, including comprehensive and consistent processes, to address conformity assessment of non-respiratory personal protective equipment. Conformity assessment is defined as the “demonstration that specified requirements relating to a product, process, system, person or body are fulfilled.” Conformity assessment processes for PPT products are focused on product effectiveness and include the following primary components: Certification (ISO/IEC 17065), Inspection (ISO/IEC 17020), Testing (ISO/IEC 17025), Accreditation (ISO/IEC 17011), Surveillance (ISO/IEC 17011, ISO/IEC 17065), Supplier's Declaration of Conformity (ISO/IEC 17050), Registration (ISO/IEC 17021) and Quality Management Systems (ISO/9001).

The Conformity Assessment Project Report and preliminary framework documents will be available at www.regulations.gov.

FOR FURTHER INFORMATION CONTACT: Richard Metzler, General Engineer, NIOSH National Personal Protective Technology Laboratory Office of the Director at NPPTLeventspublic@cdc.gov, telephone (412) 386-6866, fax (412) 386-6617.

Dated: August 8, 2013.
John Howard,
Director, National Institute for Occupational Safety and Health, Centers for Disease Control and Prevention.

[FR Doc. 2013-19676 Filed 8-13-13; 8:45 am]

BILLING CODE 4163-19-P